DEPARTMENT OF DEFENSE

Department of the Army, Corps of Engineers

Nassau Back Bays Coastal Storm Risk Management Study—NEPA Scoping Meetings and Public Comment Period

AGENCY: U.S. Army Corps of Engineers, DOD.

ACTION: Notice of Intent/NEPA Scoping meeting and public comment period.

SUMMARY: Pursuant to the requirements of the National Environmental Policy Act, the U.S. Army Corps of Engineers (Corps) plans to prepare a Feasibility Study with an integrated Environmental Impact Statement (EIS) to evaluate environmental impacts from reasonable project alternatives and to determine the potential for significant impacts related to reduce future flood risk in ways that support the long‐term resilience and sustainability of the coastal ecosystem and surrounding communities due to sea level rise, local subsidence and storms, and to reduce the economic costs and risks associated with largescale flood and storm events in the area known as the Atlantic Coast of New York, the Nassau County Back Bays.

ADDRESSES: Send written comments and suggestions concerning the scope of issues to be evaluated within the EIS to Robert Smith, Project Biologist/NEPA Coordinator, U.S. Army Corps of Engineers, New York District, Planning Division, Environmental, 26 Federal Plaza, New York, NY 10279-0090; Phone: (917) 790-8729; email: robert.j.smith@usace.army.mil.

FOR FURTHER INFORMATION CONTACT: Questions about the overall Nassau County Back Bays Coastal Storm Risk Management Feasibility Study should be directed to Mark Lulka, Project Manager, U.S. Army Corps of Engineers, New York District, Programs and Project Management Division, Civil Works Programs Branch, 26 Federal Plaza, Room 2145, New York, NY 10279-0090; Phone: (917) 790-8205; email: mark.f.lulka@usace.army.mil.

DATES: Scoping meetings will be held on May 2 and 3, 2017. For further information on these scoping meetings, please read the SUPPLEMENTARY INFORMATION section.

SUPPLEMENTARY INFORMATION:

1. Background

As a result of Hurricane Sandy in October 2012, Congress passed Public Law 113-2, which authorized supplemental appropriations to Federal agencies for expenses related to the consequences of Hurricane Sandy. The Corps is investigating measures to reduce future flood risk in ways that support the long‐term resilience and sustainability of the coastal ecosystem and surrounding communities, and reduce the economic costs and risks associated with flood and storm events. In support of this goal, the Corps completed the North Atlantic Coast Comprehensive Study (NAACS), which identified nine high risk areas on the Atlantic Coast for further analysis based on preliminary findings. The Nassau County Back Bays area was identified as one of the nine areas of high risk, or Focus Areas, that warrants an in-depth investigation into potential coastal storm risk management measures.

During Hurricane Sandy, the study area communities were severely affected with large areas subjected to erosion, storm surge, and wave damage along the Atlantic Ocean shoreline, and flooding of communities within and surrounding Bays. Along the Atlantic Ocean, surge and waves inundated low lying areas, and contributed to the flooding along the shoreline of the interior of the Bays. Hurricane Sandy illustrated the need to re-evaluate the entire back-bay area as a system, when considering risk-management measures. Acknowledging the amount of analyses required to comprehensively reevaluate the study area considering the influence of the Atlantic Ocean shorefront conditions on the back-bay system, an EIS will be prepared. The EIS will build upon the extensive Atlantic shoreline alternatives analysis and environmental and technical studies and outreach conducted to date. The scope of analysis will be appropriate to the level of detail necessary for an EIS and will receive input from the public and reviewing agencies. The analysis will provide the basis for the alternatives to problems associated with storm surge and wave damage along the back-bays.

2. Study Area

The study area includes all of the tidally influenced bays and estuaries located in and hydraulically connected to the south shore of Nassau County, New York, located on Long Island, NY, directly east of Queens County and west of Suffolk County for approximately 98 square miles.

3. Corps Decision Making

As required by Council on Environmental Quality's Principles, Requirements and Guidelines for Water and Land Related Resources Implementation Studies all reasonable alternatives to the proposed Federal action that meet the purpose and need will be considered in the EIS. These alternatives will include no action and a range of reasonable alternatives for managing flood risk within the Nassau County Back Bays Area. The measures to be evaluated will be the subject of additional public stakeholders and agency coordination. The result of this coordination early on in the process will identify any concerns, potential impacts, relevant effects of past actions and possible alternative actions which will aid in the Corps developing an EIS for the entire study area. This decision making approach will allow time to address agency policy issues and build consensus among cooperating agencies and the public.

4. Scoping/Public Participation

The Corps has scheduled meeting to invite the public to come and comment on the scope of the issues and alternatives to be addressed in the draft EIS. The Nassau County Back Bay, NEPA Scoping Meeting will be held:

When: Tuesday, May 02, 2017 6:00 p.m.-9:00 p.m.

Where: Seaford High School Auditorium, Seaford, NY

When: Wednesday, May 03, 2017 6:00 p.m.-9:00 p.m.

Where: Freeport Village Hall, Freeport, NY

Each of the public meetings will begin with an informal open house followed by the formal presentation. Input will also be received through written comments, comments may be submitted during the scoping meetings, or via mail or email at any time.

5. Lead and Cooperating Agencies

The Corps is the lead federal agency and the New York Department of Environmental Conservation will be the nonfederal sponsor for the study and the preparation of the EIS and meeting the requirements of the NEPA and its Implementing Regulations of the President's Council on Environmental Quality (40 CFR 1500-1508). Federal agencies interested in participating as a Cooperating Agency are requested to submit a letter of intent to Colonel David A. Caldwell, District Engineer (see ADDRESSES). The preparation of the EIS will be coordinated with New York State and Nassau County offices with discretionary authority relative to the proposed actions. The Draft Integrated Feasibility Report/EIS is currently scheduled for distribution to the public in 2019.

Dated: April 12, 2017.
Peter M. Weppler,
Chief, Environmental Analysis Branch, Planning Division, New York District.

[FR Doc. 2017-08095 Filed 4-20-17; 8:45 am]

BILLING CODE 3720-58-P